DEPARTMENT OF HEALTH AND HUMAN SERVICES

Centers for Disease Control and Prevention

Cooperative Agreement for Building System Capacity To Apply Law as a Public Health Tool

Announcement Type: New.

Funding Opportunity Number: RFA AA036.

Catalog of Federal Domestic Assistance Number: 92.283.

Key Dates: Application Deadline: May 23, 2005.

I. Funding Opportunity Description

Authority: 42 U.S.C. 247b(k)(2).

Purpose: The Centers for Disease Control and Prevention (CDC) announces the availability of fiscal year (FY) 2005 funds for a cooperative agreement program to assist public health related professions and organizations to strengthen their capacity to apply law as a tool for improving the health of the public through prevention and health promotion. The focus will be on public health priorities established by CDC. The initial highest priority will be preparedness for, and response to, public health emergencies such as those associated with terrorism, influenza and other infectious disease epidemics, and natural disasters. Additional initial high priorities will include prevention of obesity and chronic disease, and promotion of adolescent health. Priorities may change during the grant period. This program addresses the “Healthy People 2010” focus area Public Health Infrastructure.

For the purpose of this program, public health-related professions include, at a minimum: Elected and appointed public officials who make or influence the use of law as a public health tool; public health policy makers and practitioners; attorneys; emergency response and law enforcement professionals; the judiciary; researchers; and educators and trainers and organizations serving those professions. The main emphasis will be on professions, or organizations serving them, active at the state and local levels but federal agency professionals and organizations (e.g., CDC programs) may be addressed as well.

The program has two goals within its overarching purpose. Goal 1 is to strengthen public health law-related competencies, to improve information resources on public health law, to translate applied public health law research findings into practice, and to expand partnerships among organizations active in public health law. Goal 2 is to co-sponsor, with CDC, an annual conference series in public health law. Organizations may apply to conduct work on Goal 1, on Goal 2, or on both goals. An organization that wishes to apply to conduct work on both goals must submit two separate applications. Work on both goals will be conducted in collaboration with the CDC Public Health Law Program.

Measurable outcomes of the program will be in alignment with the following Public Health Improvement performance goal in the final FY 2005 Government Performance and Results Act (GPRA) Annual Performance Plan: “Increase the number of frontline public health workers at the state and local level that are competent and prepared to respond to bioterrorism, infectious disease outbreaks, and other public health threats and emergencies and prepare frontline state and local health departments and laboratories to respond to current and emerging public health threats.”

This announcement is only for non-research activities supported by CDC/ATSDR. If research is proposed, the application will not be reviewed. For the definition of research, please see the CDC Web site at the following Internet address: http://www.cdc.gov/od/ads/opspoll1.htm

Activities: In conducting activities to achieve the purpose of this program, the recipient will be responsible for the activities listed in Recipient Activities, and CDC will be responsible for the activities listed in CDC Activities.

Recipient activities for this program are as follows:

With respect to Goal 1:

Recipient Activities

1. Strengthen the competencies of public health-related professions to apply law effectively as a public health tool:

a. Prepare a plan to strengthen the competencies of public health-related professions by January 1, 2006, and revise the plan as indicated thereafter

b. Develop and deliver education, training, and continuing education in public health law, beginning no later than February 1, 2006.

c. Evaluate and report on the recipient's education, training, and continuing education at least annually, beginning no later than July 1, 2006.

2. Develop and provide information, and opportunities for information exchange, on public health law to public health-related professions:

a. Prepare a plan to develop and provide information, and for information exchange, by January 1, 2006, and revise the plan as indicated thereafter

b. Implement the plan, beginning no later than February 1, 2006, including, at a minimum:

i. National or international teleconferences

ii. Information provided through the recipient's Web site

iii. Information provided through the recipient's newsletters, and other publications, and

iv. Information provided to other organizations for dissemination to public health-related professions.

c. Evaluate and report on the recipient's information and information exchange activities at least annually, beginning no later than July 1, 2006.

3. Translate applied public health law research findings into public health-related professional's practice

a. Prepare a plan for translating research findings into practice by January 1, 2006, and revise the plan as indicated

b. Implement the plan, including, at a minimum, one annual symposium or meeting on translating research findings into practice, beginning no later than April 1, 2006.

c. Evaluate and report on the recipient's research translation activities at least annually, beginning no later than July 1, 2006.

4. Stimulate development of partnerships among the recipient and other organizations that serve public health-related professions

a. Prepare a plan for stimulating partnership development by January 1, 2006, and revise the plan as indicated

b. Implement the plan, beginning no later than April 1, 2006

c. Evaluate and report on the recipient's partnership-related activities at least annually, beginning no later than July 1, 2006.

5. Submit four quarterly progress reports in each 12-month budget period. These progress reports must contain the following information:

a. Work accomplished related to each recipient activity

b. Measures of effectiveness in accomplishing the program objectives

c. Compliance with the project timeline

Progress reports are due no later than December 31, March 31, June 31 and September 31 of each year.

In a cooperative agreement, CDC staff is substantially involved in the program activities, above and beyond routine grant monitoring.

CDC Activities

1. Collaborate with the recipient in identifying priorities and activities, services and products consistent with Recipient activities 1-4.

2. Collaborate with the recipient in identifying priority public health-related professions for education, training, continuing education, information, and research translation services and products and in identifying organizations with partnership potential.

3. Provide limited technical guidance to the recipient in conducting its activities under this corporative agreement.

With respect to Goal 2:

Recipient Activities

1. Co-sponsor with CDC an annual series of public health law conferences targeted at public health-related professions, beginning no later than June 2006

a. Prepare a plan for the substantive program of the 2006 conference by November 1, 2005, and revise as indicated

b. Prepare a plan for faculty selection and for development of lasting educational products for the 2006 conference by January 1, 2006

c. Collaborate with CDC in organizing and conducting the 2006 conference, including managing overall conference logistics, organizing travel for conference faculty, assisting in marketing and promotional efforts, identifying or providing continuing education credits, including, at a minimum, Continuing Medical Education (CME) and Continuing Legal Education (CLE), among others.

d. Develop and disseminate conference proceedings and other products

e. Evaluate all aspects of the conference

f. Collaborate with other CDC conference collaborating organizations

g. Repeat activities a-f for the 2007 and 2008 annual conferences

In a cooperative agreement, CDC staff is substantially involved in the program activities, above and beyond routine grant monitoring.

CDC Activities

1. Collaborate with the recipient in co-sponsoring the annual series of public health law conferences, including, among other activities:

a. Identifying potential members of conference planning committees

b. Identifying potential topics for the substantive conference program, learning objectives, faculty, and lasting educational products

c. Disseminating conference proceedings and other products

II. Award Information

Type of Award: Cooperative Agreement. CDC involvement in this program is listed in the Activities Section above.

Fiscal Year Funds: 2005.

Approximate Total Funding: Approximately $100,000 is available in FY 2005 to fund activities related to Goal 1. Approximately $300,000 is available in FY 2005 to fund activities related to Goal 2.

Approximate Number of Awards: Two.

Approximate Average Award: $100,000 with respect to goal 1 and $300,000 with respect to goal 2. (These amounts are for the first 12-month budget period, and includes both direct and indirect costs.)

Floor of Award Range: $50,000 for goal 1 and $150,000 for goal 2.

Ceiling of Award Range: $150,000 for goal 1 and $350,000 for goal 2.

Anticipated Award Date: August 31, 2005.

Budget Period Length: 12 months.

Project Period Length: Up to three years. Throughout the project period, CDC's commitment to continuation of awards will be conditioned on the availability of funds, evidence of satisfactory progress by the recipient (as documented in required reports), and the determination that continued funding is in the best interest of the Federal Government.

III. Eligibility Information

III.1. Eligible Applicants

Applications may be submitted by public and private nonprofit organizations and by governments and their agencies, such as:

• Public nonprofit organizations.

• Private nonprofit organizations.

• Universities.

• Colleges.

• Research institutions.

• Hospitals.

• Community-based organizations.

• Faith-based organizations.

• Federally recognized Indian tribal governments.

• Indian tribes.

• Indian tribal organizations.

• State and local governments or their Bona Fide Agents (this includes the District of Columbia, the Commonwealth of Puerto Rico, the Virgin Islands, the Commonwealth of the Northern Marianna Islands, American Samoa, Guam, the Federated States of Micronesia, the Republic of the Marshall Islands, and the Republic of Palau).

• Political subdivisions of States (in consultation with States).

A Bona Fide Agent is an agency/organization identified by the state as eligible to submit an application under the state eligibility in lieu of a state application. If you are applying as a bona fide agent of a state or local government, you must provide a letter from the state or local government as documentation of your status. Place this documentation behind the first page of your application form.

III.2. Cost Sharing or Matching

Matching funds are encouraged but not required for this program.

III.3. Other

If you request a funding amount greater than the ceiling of the award range, your application will be considered non-responsive, and will not be entered into the review process. You will be notified that your application did not meet the submission requirements.

Special Requirements: If your application is incomplete or non-responsive to the special requirements listed in this section, it will not be entered into the review process. You will be notified that your application did not meet submission requirements.

• Late applications will be considered non-responsive. See section “IV.3. Submission Dates and Times” for more information on deadlines.

• Recipients are required to collaborate with organizations and professionals active in public health practice and public health law at the local, state, national, and international levels.

• Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1 (OMB Number 0937-0189).

Electronic Submission: CDC strongly encourages you to submit your application electronically by utilizing the forms and instructions posted for this announcement on http://www.Grants.gov, the official Federal agencywide E-grant Web site. Only applicants who apply online are permitted to forego paper copy submission of all application forms.

Paper Submission: Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Application: Electronic Submission: You may submit your application electronically at: http://www.grants.gov. Applications completed online through Grants.gov are considered formally submitted when the applicant organization's Authorizing Official electronically submits the application to www.grants.gov. Electronic applications will be considered as having met the deadline if the application has been submitted electronically by the applicant organization's Authorizing Official to Grants.gov on or before the deadline date and time.

It is strongly recommended that you submit your grant application using Microsoft Office products (e.g., Microsoft Word, Microsoft Excel, etc.). If you do not have access to Microsoft Office products, you may submit a PDF file. Directions for creating PDF files can be found on the Grants.gov Web site. Use of file formats other than Microsoft Office or PDF may result in your file being unreadable by our staff.

CDC recommends that you submit your application to Grants.gov early enough to resolve any unanticipated difficulties prior to the deadline. You may also submit a back-up paper submission of your application. Any such paper submission must be received in accordance with the requirements for timely submission detailed in Section IV.3. of the grant announcement. The paper submission must be clearly marked: “BACK-UP FOR ELECTRONIC SUBMISSION.” The paper submission must conform with all requirements for non-electronic submissions. If both electronic and back-up paper submissions are received by the deadline, the electronic version will be considered the official submission.

Paper Submission: If you plan to submit your application by hard copy, submit the original and two hard copies of your application by mail or express delivery service. Refer to Section IV.6. Other Submission Requirements for submission address.

You must submit a project narrative with your application forms. The narrative must be submitted in the following format:

• Maximum number of pages: 30. If your narrative exceeds the page limit, only the first pages which are within the page limit will be reviewed.

• Font size: 12 point unreduced.

• Single spaced.

• Paper size: 8.5 by 11 inches.

• Page margin size: One inch.

• Printed only on one side of page.

• Held together only by rubber bands or metal clips; not bound in any other way.

Your narrative should address activities to be conducted over the entire project period, and should consist of, at a minimum, the following sections: Goals and Objectives; Methods and Collaboration Plan; Capacity and Program Management; Background and Need; Evaluation Plan; and Requested Budget and Justification.

Additional information may be included in the application appendices. The appendices will not be counted toward the narrative page limit. This additional information includes:

• Curricula Vitae.

• Resumes.

• Organizational Charts and Articles of Incorporation or Charter.

• Letters of Support.

• Project Plan and Timeline.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: May 23, 2005.

Explanation of Deadlines: Applications must be received in the CDC Procurement and Grants Office by 4 p.m. Eastern Time on the deadline date. If you submit your application by the United States Postal Service or commercial delivery service, you must ensure that the carrier will be able to guarantee delivery by the closing date and time. If CDC receives your submission after closing due to: (1) Carrier error, when the carrier accepted the package with a guarantee for delivery by the closing date and time, or (2) significant weather delays or natural disasters, you will be given the opportunity to submit documentation of the carriers guarantee. If the documentation verifies a carrier problem, CDC will consider the submission as having been received by the deadline.

This announcement is the definitive guide on application content, submission address, and deadline. It supersedes information provided in the application instructions. If your submission does not meet the deadline above, it will not be eligible for review, and will be discarded. You will be notified that you did not meet the submission requirements.

Electronic Submission: If you submit your application electronically with Grants.gov, your application will be electronically time/date stamped which will serve as receipt of submission. In turn, you will receive an e-mail notice of receipt when CDC receives the application. All electronic applications must be submitted by 4 p.m. eastern time on the application due date.

Paper Submission: CDC will not notify you upon receipt of your paper submission. If you have a question about the receipt of your LOI or application, first contact your courier. If you still have a question, contact the PGO-TIM staff at: 770-488-2700. Before calling, please wait two to three days after the submission deadline. This will allow time for submissions to be processed and logged.

IV.4. Intergovernmental Review of Applications

Your application is subject to Intergovernmental Review of Federal Programs, as governed by Executive Order (EO) 12372. This order sets up a system for state and local governmental review of proposed federal assistance applications. You should contact your state single point of contact (SPOC) as early as possible to alert the SPOC to prospective applications, and to receive instructions on your state's process. Click on the following link to get the current SPOC list: http://www.whitehouse.gov/omb/grants/spoc.html.

IV.5. Funding Restrictions

Restrictions, which must be taken into account while writing your budget, are as follows:

• Funds may not be used for research.

• Funds may not be used for construction or purchase of facilities or space.

• Funds may not be used to supplant other available applicant or collaborating agency funds.

If you are requesting indirect costs in your budget, you must include a copy of your indirect cost rate agreement. If your indirect cost rate is a provisional rate, the agreement should be less than 12 months of age.

Guidance for completing your budget can be found on the CDC web site, at the following Internet address: http://www.cdc.gov/od/pgo/funding/budgetguide.htm.

IV.6. Other Submission Requirements

CDC strongly encourages applicants to submit electronically at: http://www.Grants.gov. You will be able to download a copy of the application package from http://www.Grants.gov, complete it offline, and then upload and submit the application via the Grants.gov site. E-mail submissions will not be accepted. If you are having technical difficulties in Grants.gov they can be reached by e-mail at http://www.support@grants.gov or by phone at 1-800-518-4726 (1-800-518-GRANTS). The Customer Support Center is open from 7 a.m. to 9 p.m. eastern time, Monday through Friday.

Paper Submission: If you chose to submit a paper application, submit the original and two hard copies of your application by mail or express delivery service to: Technical Information Management—AA036, CDC Procurement and Grants Office, 2920 Brandywine Road, Atlanta, GA 30341.

V. Application Review Information

V.1. Criteria

Applicants are required to provide measures of effectiveness that will demonstrate accomplishment of the objectives of the cooperative agreement. Measures of effectiveness must relate to the performance goal stated in the “Purpose” section of this announcement. Measures must be objective and quantitative, and must measure the intended outcome. These measures of effectiveness must be submitted with the application and will be an element of evaluation.

Your application will be evaluated against the following criteria:

1. Goals and Objectives (25 Points)

(a) The extent to which the applicant clearly describes specific short- and long-term goals and measurable objectives for each recipient activity.

(b) The extent to which the application specifies concrete products and services to be developed and made available to public health-related professionals and organizations.

2. Methods and Collaboration Plan (25 points)

(a) The soundness of the methods the applicant proposes to use to conduct each recipient activity.

(b) The specificity, relevance, and feasibility of the applicant's plan and timeline to complete each recipient activity. A plan and a timeline must be included in the application. (The timeline may take the form of an attachment.)

(c) The extent to which the applicant demonstrates experience in collaborating with organizations and professionals active in public health practice and public health law at the local, state, national, and international levels in relation to recipient activities.

(d) The extent to which the applicant has included, as attachments, signed letters of substantive commitment from organizations and professionals active in public health and public health law to collaborate with the applicant on recipient activities.

3. Capacity and Program Management (20 Points)

(a) The extent to which the applicant demonstrates that its board of directors and staff have expertise and experience in public health law related to the recipient activities.

(b) The extent to which the applicant specifies the role its staff and board of directors will play in carrying out recipient activities.

(c) The extent to which the applicant demonstrates the capacity of its management systems to support accomplishment of recipient activities and the purpose and goals of the cooperative agreement.

4. Background and Need (20 Points)

(a) The extent to which the applicant demonstrates concrete accomplishments in the field of public health law relevant to the recipient activities.

(b) The extent to which the articles of incorporation and/or charter of the applicant authorize national and international scope of operation and membership relevant to the recipient activities.

5. Evaluation Plan/Measures of Effectiveness (10 Points)

The extent to which the applicant provides a detailed description of the methods to be used to evaluate effectiveness, including identification of the variables to be evaluated, identification of the person(s) or organization(s) that will conduct evaluations, and specification of the time line for evaluations.

6. Requested Budget and Justification (Not Scored)

(a) The extent to which the budget is clearly explained, adequately justified, reasonable, sufficient for the proposed project activities, and consistent with the intended use of the cooperative agreement funds.

(b) The applicant should provide a detailed budget with complete line-item justification of all proposed costs consistent with the stated activities in the program announcement. The budget must also include a narrative justification for all requested costs. The applicant should provide a list of any sources of additional funding beyond the amount stipulated in this cooperative agreement.

V.2. Review and Selection Process

Applications will be reviewed for completeness by the Procurement and Grants Office (PGO) staff, and for responsiveness by the Office of the Chief of Public Health Practice (OCPHP.) Incomplete applications and applications that are non-responsive to the eligibility criteria will not advance through the review process. Applicants will be notified that their application did not meet submission requirements.

An objective review panel consisting of CDC members outside the funding center will evaluate complete and responsive applications according to the criteria listed in the “V.1. Criteria” section above. Three reviewers from CDC staff that are not employees of the cognizant center will review and present their findings to the panel. The panel will vote to approve or disapprove based on this information and each application will be scored and ranked.

In addition, the following factors may affect the funding decision:

• Availability of funds.

• Relevance to program priorities.

CDC will provide justification for any decision to fund out of rank order.

V.3. Anticipated Announcement and Award Dates

The anticipated date for the award announcement is September 1, 2005 and the award dates will be 15-30 days after the announcement.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application.

Unsuccessful applicants will receive notification of the results of the application review by mail.

VI.2. Administrative and National Policy Requirements

45 CFR Parts 74 and 92

For more information on the Code of Federal Regulations, see the National Archives and Records Administration at the following Internet address: http://www.access.gpo.gov/nara/cfr/cfr-table-search.html.

An additional Certifications form from the PHS5161-1 application needs to be included in your Grants.gov electronic submission only. Refer to http://www.cdc.gov/od/pgo/funding/PHS5161-1-Certificates.pdf. Once the form is filled out attach it to your Grants.gov submission as Other Attachments Form.

The following additional requirements apply to this project:

• AR-7 Executive Order 12372.

• AR-10 Smoke-Free Workplace Requirements.

• AR-11 Healthy People 2010.

• AR-12 Lobbying Restrictions.

• AR-13 Prohibition on Use of CDC Funds for Certain Gun Control Activities.

• AR-14 Accounting System Requirements.

• AR-15 Proof of Non-Profit Status.

• AR-20 Conference Support.

• AR-23 States and Faith-Based Organizations.

• AR-25 Release and Sharing of Data.

Additional information on these requirements can be found on the CDC Web site at the following Internet address: http://www.cdc.gov/od/pgo/funding/ARs.htm.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Financial status report no more than 90 days after the end of the budget period.

3. Final financial and performance reports, no more than 90 days after the end of the project period.

These reports must be mailed to the Grants Management or Contract Specialist listed in the “Agency Contacts” section of this announcement.

VII. Agency Contacts

We encourage inquiries concerning this announcement. For general questions, contact: Technical Information Management Section, CDC Procurement and Grants Office, 2920 Brandywine Road, Atlanta, GA 30341, Telephone: 770-488-2700.

For program technical assistance, contact: Montrece M. Ransom, JD, Project Officer, Public Health Law Program, Centers for Disease Control and Prevention, 4770 Buford Highway, NE., Mail-stop K-36, Atlanta, GA 30341, lephone: 770-488-8286, E-mail: mransom@cdc.gov.

For financial, grants management, or budget assistance, contact:

Mattie B. Jackson, Grants Management Specialist, CDC Procurement and Grants Office, 2920 Brandywine Road, Atlanta, GA 30341, Telephone: 770-488-2696, E-mail: mij3@cdc.gov.

VIII. Other Information

This and other CDC funding opportunity announcements can be found on the CDC Web site, Internet address: www.cdc.gov. Click on “Funding” then “Grants and Cooperative Agreements.”

Please visit our Web site at: http://www.phppo.cdc.gov/od/phlp/index.asp.

Dated: March 31, 2005.
William P. Nichols,
Director, Procurement and Grants Office, Centers for Disease Control and Prevention.

[FR Doc. 05-6901 Filed 4-6-05; 8:45 am]

BILLING CODE 4163-18-P